DEFENSE NUCLEAR FACILITIES SAFETY BOARD

Sunshine Act Meetings

TIME AND DATE: 1 p.m.-4 p.m., December 20, 2018.

PLACE: Defense Nuclear Facilities Safety Board, 625 Indiana Avenue NW, Room 7019, Washington, DC 20004.

STATUS: Open.

MATTERS TO BE CONSIDERED: The implicit and explicit recommendations captured in the National Academy of Public Administration's Defense Nuclear Facilities Safety Board Organizational Assessment and recent Inspector General recommendations concerning the effectiveness of the Defense Nuclear Facilities Safety Board. The Organizational Assessment and other related documents are available on the Board's public website at www.dnfsb.gov.

CONTACT PERSON FOR MORE INFORMATION: Glenn Sklar, General Manager, Defense Nuclear Facilities Safety Board, 625 Indiana Avenue NW, Suite 700, Washington, DC 20004-2901, (800) 788-4016. This is a toll-free number.

Dated: November 20, 2018.
Joyce L. Connery,
Acting Chairman.

[FR Doc. 2018-25831 Filed 11-21-18; 4:15 pm]

BILLING CODE 3670-01-P